DEPARTMENT OF HEALTH AND HUMAN SERVICES

Centers for Disease Control and Prevention

[Funding Opportunity Number: CE05-029]

Dissemination Research on Fall Prevention: Development and Testing of an Exercise Program Package to Prevent Older Adult Falls; Notice of Availability of Funds-Amendment

A notice announcing the availability of fiscal year (FY) 2005 funds for cooperative agreements to conduct a research program on translating an exercise intervention that rigorous research has shown is effective in reducing falls among older adults into a program; testing implementation of the program in a community setting; and conducting dissemination research focusing on reach, uptake, feasibility, fidelity of the implementation, and acceptability was published in the Federal Register on November 8, 2004, Vol. 69, No. 215, pages 64762-64769.

The notice is amended as follows: On page 64765, Column 2, Section IV.1. Address to Request application Package, delete the first sentence and replace with “To apply for this funding opportunity, use application form PHS 398 (OMB number 0925-0001 rev. 9/2004).

Dated: January 28, 2005.
William P. Nichols,
Director, Procurement and Grants Office, Centers for Disease Control and Prevention.

[FR Doc. 05-2040 Filed 2-2-05; 8:45 am]

BILLING CODE 4163-18-P